DEPARTMENT OF COMMERCE

International Trade Administration

[A-533-824]

Certain Polyethylene Terephthalate Film, Sheet, and Strip from India: Extension of Time Limit for Preliminary Results of Antidumping Duty Administrative Review

AGENCY: Import Administration, International Trade Administration, U.S. Department of Commerce

EFFECTIVE DATE: February 22, 2008.

FOR FURTHER INFORMATION CONTACT: Martha Douthit, Office of AD/CVD Operations, Office 6, Import Administration, International Trade Administration, U.S. Department of Commerce, 14th Street and Constitution Avenue, NW, Washington DC 20230; telephone: (202) 482-5050.

SUPPLEMENTARY INFORMATION:

Background

On August 24, 2007, in response to timely requests from Jindal Poly Films Limited, Ltd. (Jindal) and MTZ Polyfilms, Ltd. (MTZ) of India, the Department of Commerce (the Department) initiated an administrative review of the antidumping duty order on polyethylene terephthalate film sheet and strip (PET film) from India for the period July 1, 2006 through June 30, 2007. See Initiation of Antidumping and Countervailing Duty Administrative Reviews and Request for Revocation in Part, 72 FR 48613 (August 24, 2007). This administrative review covers one producer (Jindal) of the subject merchandise. On October 30, 2007, we rescinded the review of MTZ as a result of the withdrawal of its request for review. The preliminary results are currently due no later than April 1, 2008.

Extension of Time Limits for Preliminary Results

Section 751(a)(3)(A) of the Tariff Act of 1930, as amended (the Act), and section 351.213(h)(1) of the Department's regulations require the Department to issue the preliminary results of a review within 245 days after the last day of the anniversary month of the order for which the administrative review was requested, and final results of the review within 120 days after the date on which the notice of the preliminary results is published in the Federal Register. However, if the Department determines that it is not practicable to complete the review within the aforementioned specified time limits, section 751(a)(3)(A) of the Act and section 351.213(h)(2) of the Department's regulations allow the Department to extend the 245-day period to 365 days. We determine that it is not practicable to complete the preliminary results of this review within the original time limit because of the need to issue a supplemental questionnaire and analyze the response. Therefore, we are fully extending the deadline for completion of the preliminary results of this administrative review until no later than July 30, 2008. The deadline for the final results of the review continues to be 120 days after the publication of the preliminary results.

This notice is issued and published pursuant to sections 751(a)(1) and 777(i)(1) of the Act.

Dated: February 13, 2008.
Stephen J. Claeys,
Deputy Assistant Secretary for Import Administration.

[FR Doc. E8-3360 Filed 2-21-08; 8:45 am]

BILLING CODE 3510-DR-S